DEPARTMENT OF LABOR

Office of the Secretary of Labor

Notice of Meeting: President's Council on the 21st Century Workforce and the Committees on Skills Gap, Demographics and Workplace Issues

AGENCY: Office of the Secretary of Labor.

ACTION: Notice of meeting of the President's Council on the 21st Century Workforce and meeting of Committees.

SUMMARY: Pursuant to Executive Order 13218, the Secretary of Labor will hold a meeting of the President's Council on the 21st Century Workforce, hereafter (The Council). This is the third meeting of the Council and its Committees on the Skills Gap, Changing Demographics, and Workplace Issues. The Council and Committees will provide information and advice to the President, through the Secretary of Labor and the Office of the 21st Century Workforce, on issues guided by Executive Order 13218.

Date, Time & Location: The Council and the Committees will meet on April 29, 2003, from 8:30 a.m. to approximately 2 p.m. The location of the meeting will be the Secretary's Conference Room, U.S. Department of Labor, Francis Perkins Building, 200 Constitution Avenue, NW., Washington DC 20210.

FOR FURTHER INFORMATION CONTACT: Melanie Baker, Staff Assistant, Office of the 21st Century Workforce, U.S. Department of Labor, Room S-2235, 200 Constitution Avenue, NW., Washington, DC 20210. The contact telephone number is (202) 693-6490.

SUPPLEMENTARY INFORMATION: The meeting is open to the public. The agenda for this meeting includes:

• Welcome and remarks by U.S. Secretary of Labor Elaine L. Chao;

• Welcome and remarks by the Director of the Office of the 21st Century Workforce;

• Briefing by Department of Labor (DOL) Officials;

• Committee meeting on the Skills Gap, Changing Demographics and Workplace Issues.

An official record of the meeting will be available for public inspection in the Office of the 21st Century Workforce. All inquiries should be addressed to the Office of the 21st Century Workforce at the address and telephone number provided above.

Individuals needing special accommodations for the Council or Committee meeting should contact Melanie Baker at 202-693-6490 before April 21, 2003.

Interested parties may submit written data, views or comments, preferably 20 copies, to Melanie Baker at the address listed above. The Office of the 21st Century Workforce will forward submissions received prior to the meeting to the appropriate Council or Committees and will include each submission in the record of the meeting.

Signed in Washington DC on April 7, 2003.
Shelley S. Hymes,
Director, Office of the 21st Century Workforce.

[FR Doc. 03-8906 Filed 4-10-03; 8:45 am]

BILLING CODE 4510-23-P